DEPARTMENT OF ENERGY

Federal Energy Regulatory Commission

[Project No. 2101-084; Project No. 2155-024]

Sacramento Municipal Utility District (California); Pacific Gas & Electric Company (California); Notice of Availability of the Final Environmental Impact Statement for the Upper American River Project and the Chili Bar Project

March 14, 2008.

In accordance with the National Environmental Policy Act of 1969 and the Federal Energy Regulatory Commission's (Commission) regulations, 18 CFR Part 380 (Order No. 486, 52 FR 47897), the Office of Energy Projects has reviewed the applications for relicense for the Upper American River Project (FERC No. 2101) and the Chili Bar Project (FERC No. 2155), located on the South Fork of the American River near Placerville, California, and has prepared a Final Environmental Impact Statement (final EIS) for the projects.

The existing 688-megawatt (MW) Upper American River Project occupies 6,375 acres of federal land administered by the U.S. Department of Agriculture, Forest Service (Forest Service), in Eldorado National Forest and 42.3 acres of federal land administered by the U.S. Department of the Interior, Bureau of Land Management (BLM). The Forest Service is reviewing an application for a special use permit for constructing the Iowa Hill development on National Forest System lands. The Forest Service is also a cooperating agency in preparing this final EIS for the Upper American River Project.

Pacific Gas & Electric Company's 7-MW Chili Bar Project is located on the South Fork of the American River immediately downstream of the Upper American River Project. The project occupies 47.81 acres of federal land administered by the BLM.

In the final EIS, staff evaluates the applicant's proposals and alternatives for relicensing the projects. The final EIS documents the views of governmental agencies, non-governmental organizations, affected Indian tribes, the public, the license applicant, and Commission staff.

Copies of the final EIS are available for review in the Commission's Public Reference Branch, Room 2A, located at 888 First Street, NE., Washington, DC 20426. The final EIS also may be viewed on the Internet at http://www.ferc.gov under the eLibrary link. Enter the docket number (either P-2101 or P-2155) to access the document. For assistance, contact FERC Online Support at: FERCOnlineSupport@ferc.gov or toll-free at 1-866-208-3676, or for TTY, (202) 502-8659.

CD versions of the final EIS have been mailed to everyone on the mailing list for the projects. Copies of the CD, as well as a limited number of paper copies, are available from the Public Reference Room identified above.

You may also register online at http://www.ferc.gov/docs-filing/esubscription.asp to be notified via e-mail of new filings and issuances related to these or other pending projects. For assistance, contact FERC Online Support.

For further information, contact James Fargo at (202) 502-6095 or at: james.fargo@ferc.gov.

Kimberly D. Bose,
Secretary.

[FR Doc. E8-5831 Filed 3-21-08; 8:45 am]

BILLING CODE 6717-01-P